DEPARTMENT OF TRANSPORTATION

Pipeline and Hazardous Materials Safety Administration

[Docket No. PHMSA-2018-0099]

Pipeline Safety: Request for Special Permit; Gulf South Pipeline Company, LP

AGENCY: Pipeline and Hazardous Materials Safety Administration (PHMSA); DOT.

ACTION: Notice.

SUMMARY: PHMSA is publishing this notice to seek public comments on a request for a special permit, seeking relief from compliance with certain requirements in the federal pipeline safety regulations. At the conclusion of the 30-day comment period, PHMSA will review the comments received from this notice as part of its evaluation to grant or deny the special permit request.

DATES: Submit any comments regarding this special permit request by January 4, 2019.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Privacy Act Statement: There is a privacy statement published at http://www.Regulations.gov. Comments, including any personal information provided, are posted without changes or edits to http://www.Regulations.gov.

FOR FURTHER INFORMATION CONTACT: General: Ms. Kay McIver by telephone at 202-366-0113, or email at kay.mciver@dot.gov.

Technical: Mr. Steve Nanney by telephone at 713-628-7479, or email at Steve.Nanney@dot.gov.

SUPPLEMENTARY INFORMATION: PHMSA received a special permit request from Gulf South Pipeline Company, LP, (“GSPC”) to deviate from the pipeline safety regulations in 49 CFR 192.611, for four segments totaling 4.65 miles, of 30-inch diameter Index 130 pipeline, located in Ascension and Livingston Parishes, Louisiana, where the class location has changed from a Class 1 to Class 3 location. In lieu of pipe replacement, GSPC seeks permission to perform alternative risk control activities based on integrity management program principles and requirements. Due to class location changes from a Class 1 to Class 3 in the 1990s, GSPC lowered the maximum allowable operating pressure as required by § 192.611, from 936 pounds per square inch gauge (psig) to 780 psig. However, GSPC now seeks to uprate the line to restore the previous MAOP, using Subpart K of § 192.555.

The special permit request provided by the operator includes a draft environmental assessment, (EA), proposed special permit conditions, and location map. These documents are filed at http://www.Regulations.gov, in Docket No. PHMSA-2018-0099. We invite interested persons to participate by reviewing the special permit documents and draft EA at http://www.Regulations.gov, and by submitting written comments, data or other views. Please include any comments on potential safety and environmental impacts that may result if the special permit is granted.

Before issuing a decision on the special permit request, PHMSA will evaluate all comments received on or before the comment closing date. Comments received after the comment closing date will be evaluated if it is possible to do so without incurring additional expense or delay. PHMSA will consider each relevant comment we receive in making our decision to grant or deny a request.

Issued in Washington, DC on November 29, 2018, under authority delegated in 49 CFR 1.97.
Linda Daugherty,
Deputy Associate Administrator for Field Operations.

[FR Doc. 2018-26380 Filed 12-4-18; 8:45 am]

BILLING CODE 4910-60-P